MARINE MAMMAL COMMISSION

Sunshine Act Meetings

TIME AND DATE: The Marine Mammal Commission and its Committee of Scientific Advisors on Marine Mammals will meet in executive session on Tuesday, October 10, 2000, from 8:30 a.m. to 10:00 a.m. The public sessions of the Commission and the Committee meeting will be held on Tuesday, October 10, from 10:15 a.m. to 5:15 p.m., on Wednesday,October 11, from 8:30 a.m. to 5:00 p.m., and on Thursday, October 12, from 8:30 a.m. to 3:45 p.m.

PLACE: The TradeWinds Sandpiper Hotel, 6000 Gulf Boulevard, St. Pete Beach, Florida 33706; Phone number 727/360-5551. Fax number 727/562-1282.

STATUS: The executive session will be closed to the public. At it, matters relating to international negotiations in process, personnel, and the budget of the Commission will be discussed. All other portions of the meeting will be open to public observation. Public participation will be allowed as time permits and as determined to be desirable by the Chairman.

MATTERS TO BE CONSIDERED: The Commission and Committee will meet in public session to discuss a broad range of marine mammal matters. The focus of the meeting will be on species that occur in waters along the Atlantic and Gulf of Mexico coasts of the United States. While subject to change, major issues that the Commission plans to consider at the meeting include: research and management issues related to the Florida population of West Indian manatees, the Atlantic and Gulf populations of bottlenose dolphins, northern right whales, and the effects of noise on marine mammals.

CONTACT PERSON FOR MORE INFORMATION: Robert H. Mattlin, Executive Director, Marine Mammal Commission, 4340 East-West Highway, Room 905, Bethesda, MD 20814, 301/504-0087.

SUPPLEMENTARY INFORMATION: This is a second notice of the Commission's 2000 meeting and, except for the contact information, does not constitute any significant change in the specifics of the meeting as originally published in the July 12, 2000, notice (65 FR 43039).

Dated: September 8, 2000.
Robert H. Mattlin,
Executive Director.

[FR Doc. 00-23460 Filed 9-8-00; 10:13 am]

BILLING CODE 6820-31-M